DEPARTMENT OF COMMERCE

International Trade Administration

[C-437-805]

Sulfanilic Acid From Hungary: Postponement of Preliminary Determination of Countervailing Duty Investigation

AGENCY: Import Administration, International Trade Administration, Department of Commerce.

ACTION: Notice of postponement of preliminary determination.

SUMMARY: The Department of Commerce is postponing the preliminary determination of the countervailing duty investigation of sulfanilic acid from Hungary. This postponement is made pursuant to section 703(c) of the Tariff Act of 1930, as amended by the Uruguay Round Agreements Act.

EFFECTIVE DATE: December 10, 2001.

FOR FURTHER INFORMATION CONTACT: Melani Miller at (202) 482-0116, Office of AD/CVD Enforcement I, Group I, Import Administration, International Trade Administration, U.S. Department of Commerce, 14th Street and Constitution Ave, NW., Washington, DC 20230.

Postponement of Preliminary Determination

The Applicable Statute and Regulations

Unless otherwise indicated, all citations to the statute are references to the provisions effective January 1, 1995, the effective date of the amendments made to the Tariff Act of 1930 (“the Act”) by the Uruguay Round Agreements Act. All citations to the Department of Commerce's (“the Department”) regulations are to 19 CFR Part 351 (2001).

Statutory Time Limits

Section 703(b)(1) of the Act, requires the Department to make a preliminary determination in a countervailing duty investigation within 65 days after the date on which the Department initiates an investigation. However, if the Department concludes that the parties concerned are cooperating and determines pursuant to section 703(c) of the Act that the case is extraordinarily complicated and additional time is necessary to make the preliminary determination, according to section 703(c) of the Act, the Department may postpone making the preliminary determination until no later than 130 days after the date of initiation of the investigation.

Background

On October 18, 2001, the Department initiated the countervailing duty investigation of sulfanilic acid from Hungary. See Notice of Initiation of Countervailing Duty Investigation: Sulfanilic Acid from Hungary, 66 FR 54229 (October 26, 2001). Currently, the preliminary determination must be issued by December 24, 2001.

Postponement of Preliminary Determination

Because of the complexity of certain issues in this investigation (e.g., change in ownership and privatization and new subsidy allegations), it is not practicable to complete the preliminary determination within the original time limit. See December 4, 2001 memorandum to Richard W. Moreland, “Extension of Time Limit for the Preliminary Determination: Countervailing Duty Investigation of Sulfanilic Acid from Hungary.” Therefore, pursuant to 703(c) of the Act and 19 CFR 351.205(b)(2), the Department is postponing the preliminary determination until no later than February 25, 2002.

We are issuing and publishing this notice in accordance with sections 703(c)(2) and 777(i)(1) of the Act.

Dated: December 4, 2001.
Bernard T. Carreau.
Acting Assistant Secretary, for Import Administration.

[FR Doc. 01-30471 Filed 12-7-01; 8:45 am]

BILLING CODE 3510-DS-P